FEDERAL COMMUNICATIONS COMMISSION

47 CFR Part 73

[DA 14-671]

Radio Broadcasting Services; Various Locations

AGENCY: Federal Communications Commission.

ACTION: Final rule.

SUMMARY: The Audio Division amends the FM Table of Allotments (“FM Table”), to remove certain vacant FM allotments that were auctioned in FM Auction 68 and FM Auction 70 that are currently considered authorized stations. FM assignments for authorized stations and reserved facilities will be reflected solely in Media Bureau's Consolidated Database System (CDBS).

DATES: Effective June 10, 2014.

FOR FURTHER INFORMATION CONTACT: Rolanda F. Smith, Media Bureau, (202) 418-2700.

SUPPLEMENTARY INFORMATION: This is a summary of the Commission's Report and Order, DA 14-671, adopted May 15, 2014, and released May 16, 2014. The full text of this Commission decision is available for inspection and copying during normal business hours in the Commission's Reference Center 445 12th Street SW., Washington, DC 20554. The complete text of this decision may also be purchased from the Commission's duplicating contractor, Best Copy and Printing, Inc., 445 12th Street SW., Room CY-B402, Washington, DC 20054, telephone 1-800-378-3160 or www.BCPIWEB.com. The Commission will not send a copy of this Report and Order pursuant to the Congressional Review Act, see 5 U.S.C. 801(a)(1)(A), because the adopted rules are rules of particular applicability. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
James D. Bradshaw,
Deputy Chief, Audio Division, Media Bureau.

As stated in the preamble, the Federal Communications Commission amends 47 CFR part as follows:

PART 73—RADIO BROADCASTING SERVICES

1. The authority citation for Part 73 continues to read as follows:

Authority: 47 U.S.C. 154, 303, 334, 336 and 339.

§ 73.202 [Amended]

2. Amend § 73.202(b) Table of FM Allotments as follows:

a. Remove New Hope, under Alabama, Channel 278A; Pine Level, Channel 248A; and Saint Florian, Channel 274A.

b. Remove Aguila, under Arizona, Channel 297C3; Chino Valley, Channel 223A; Heber, Channel 288C2; Huachuca City, Channel 232A; Parker, Channel 247C3; Patagonia, Channel 251A; Rio Rico, Channel 300A; Taylor, Channel 278C3.

c. Remove Arkadelphia, under Arkansas, Channel 228A and Paragould, Channel 257A.

d. Remove Burney, under California, Channel 225A; Covelo, Channel 245A; Channel 236C3 at McKinleyville; Channel 291A at Tecopa; and Channel 253A at Willow Creek.

e. Remove Arriba, under Colorado, Channel 240A; Aspen, Channel 228A; Cheyenne Wells, Channel 224C1; Flagler, Channel 283C3; and Hugo, Channel 222A.

f. Remove Cedar Key, under Florida, Channel 261A; Key West, Channel 244A; and Perry, Channel 228A.

g. Remove Lincolnton, under Georgia, Channel 254A; Patterson, Channel 296A; Pineview, Channel 226A; Plainville, Channel 285A; Wadley, Channel 227A; Woodbury, Channel 233A; and Young Harris, Channel 236A.

h. Remove Kailua-Kona, under Hawaii, Channel 244A and Channel 298C2 at Kihei.

i. Remove North English, under Iowa, Channel 246A.

j. Remove Burgin, under Kentucky, Channel 290A; Morgantown, Channel 256A; and Science Hill, Channel 291A.

k. Remove Leesville, under Louisiana, Channel 224A.

l. Remove Monticello, under Maine, Channel 234A.

m. Remove Frederic, under Michigan, Channel 237A and Paradise, Channel 234A.

n. Remove Greenwood, under Mississippi, Channel 277A; Holly Springs, Channel 243A; and Marietta, Channel 250A.

o. Remove Doolittle, under Missouri, Channel 283A; Grandin, Channel 283A; Lowry City, Channel 285A; Madison, Channel 247C3; Marceline, Channel 256A; Marquand, Channel 295A.

p. Remove Lewistown, under Montana, Channel 300C1 and Montana City, Channel 293A; and Outlook, Channel 289C.

q. Remove Firth, under Nebraska, Channel 229A; Hyannis, Channel 250C1; and Pierce, Channel 248C2.

r. Remove Pittsburg, under New Hampshire, Channel 246A.

s. Remove under New Mexico, Channel 283C2 at Las Vegas.

t. Remove Garysburg, under North Carolina, Channel 276A and Ocracoke, Channel 224C1.

u. Remove Pawhuska, under Oklahoma, Channel 233A and Sayre, Channel 269C2.

v. Remove Meyersdale, under Pennsylvania, Channel 253A and Sykesville, Channel 240A.

w. Remove Pendleton, under South Carolina, Channel 240A.

x. Remove Wall, under South Dakota, Channel 299C

y. Remove Linden, under Tennessee, Channel 267A; Oliver Springs, Channel 291A; and Pigeon Forge, Channel 292A.

z. Remove Baird, under Texas, Channel 243C3; Ballinger, Channel 238A; Benavides, Channel 282A; Big Wells, Channel 271A; Camp Wood, Channel 271A; Childress, Channel 281C2; Channel 242A at Cotulla; Channel 229A at Dilley; Eagle Lake, Channel 237C3; Channels 285A and 293A at Eldorado; Channel 273A at Encinal; Grapeland, Channel 232C3; Hamilton, Channel 299A; Channel 254A at Hebbronville; Hewitt, Channel 294A; Mason, Channel 269C3; Pineland, Channel 256A; Sabinal, Channel 296A; Savoy, Channel 297A; and Sweetwater, Channel 221C3.

aa. Remove Parowan, under Utah, Channel 300C2.

bb. Remove Glenville, under West Virginia, Channel 299A.

cc. Remove Ephraim, under Wisconsin, Channel 295A and Rosholt, Channel 263A.

dd. Remove Reliance, under Wyoming, Channel 254C3 and Sinclair, Channel 267C.

C

[FR Doc. 2014-13537 Filed 6-9-14; 8:45 am]

BILLING CODE 6712-01-P